POSTAL RATE COMMISSION

Sunshine Act Meetings

AGENCY: Postal Rate Commission.

Time and Date: Monday, December 8, 2003 through December 11, as needed, during Commission business hours (8 a.m. to 4:30 p.m.).

Place: Commission conference room, 1333 H Street, NW., suite 300, Washington, DC 20268-0001.

Status: Closed.

Matters to be Considered: Personnel and compensation matters.

FOR FURTHER INFORMATION CONTACT: Stephen L. Sharfman, General Counsel, Postal Rate Commission, Suite 300, 1333 H Street, NW., Washington, DC 20268-0001, (202) 789-6820.

Dated: December 8, 2003.
Steven W. Williams,
Secretary.

[FR Doc. 03-30730 Filed 12-8-03; 2:41 pm]

BILLING CODE 7710-FW-M